CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed collection of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed data collection for the VISTA Evaluation Study. This study will evaluate the contributions of the VISTA program in strengthening local organizations to help them develop anti-poverty programs. The study will develop a predictive model based on information obtained from completed VISTA projects to test likely outcomes for projects in their third year of funding.

Copies of the information collection requests can be obtained by contacting the office listed in the address section of this notice.

DATES: Written comments must be submitted to the individual and office listed in the ADDRESSES section by March 17, 2008.

ADDRESSES: You may submit comments, identified by the title of the information collection activity, by any of the following methods:

(1) By mail sent to: Corporation for National and Community Service, Attn. Carol Rogers, Director, Program Evaluation & Planning, Room 9201, 1201 New York Avenue, NW., Washington, DC 20525.

(2) By hand delivery or by courier to the Corporation's mailroom at Room 8100 at the mail address given in paragraph (1) above, between 9 a.m. and 4 p.m. Monday through Friday except Federal holidays.

(3) By fax to: (202) 565-2789, Attention Ms. Carol Rogers, Director, Program Evaluation & Planning.

(4) Electronically through the Corporation's e-mail address system: crogers@cns.gov.

FOR FURTHER INFORMATION CONTACT: Carol Rogers (202) 606-5000, ext. 419, or by e-mail at crogers@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

AmeriCorps*VISTA is a national program administered by the Corporation that provides grants to nonprofit organizations and government entities to support members and volunteers serving in national and local community service programs. The proposed evaluation study will gather information from applications and subsequent project reports of sponsoring organizations about their VISTA projects to develop an understanding of their success in reaching their goals; interview the most knowledgeable person in 250 VISTA projects that have been closed for at least two years; gather information from Corporation State Offices; and conduct 40 site visits to VISTA projects.

Current Action

The Corporation seeks to enhance data elements collected via these information collection tools.

Type of Review: New.

Agency: Corporation for National and Community Service.

Title: VISTA Evaluation Study.

OMB Number:

Agency Number: None.

Affected Public: AmeriCorps*VISTA sponsoring organization staff.

Total Respondents: 455.

Frequency: One time.

Average Time per Response: 1 hour.

Estimated Total Burden Hours: 455 hours.

Total Burden Cost (capital/startup): None.

Total Burden Cost (operating/maintenance): None.

Comments submitted in response to this notice will be summarized and/or included in the request for Office of Management and Budget approval of the information collection request; they will also become a matter of public record.

Dated: January 11, 2008.
Jean Whaley,
Director, AmeriCorps*VISTA.

[FR Doc. E8-762 Filed 1-16-08; 8:45 am]

BILLING CODE 6050-$$-P